DEPARTMENT OF TRANSPORTATION

Office of the Secretary

49 CFR Part 71

[OST Docket No. OST-99-5843]

RIN 2105-AC80

Relocation of Standard Time Zone Boundary in the State of Kentucky

AGENCY: Office of the Secretary, DOT.

ACTION: Final rule.

SUMMARY: The Department of Transportation (DOT) is moving Wayne County, Kentucky from the Central Time Zone to the Eastern Time Zone. This action is taken in response to a petition filed by the Wayne County, Kentucky, Fiscal Court and based on extensive comments filed in response.

DATES: The effective date of this rule is 2 a.m. CDT Sunday, October 29, 2000.

FOR FURTHER INFORMATION CONTACT: Joanne Petrie, Office of the Assistant General Counsel for Regulation and Enforcement, U.S. Department of Transportation, Room 10424, 400 Seventh Street, SW., Washington, DC 20590, (202) 366-9315.

SUPPLEMENTARY INFORMATION:

Background

Legal Requirements

Under the Uniform Time Act of 1918, as amended (15 USC §§ 260-264), either the Secretary of Transportation or Congress may move a time zone boundary in the United States. The current boundaries are set forth in regulations that are found in 49 CFR part 71.

Generally, in order to begin a rulemaking proceeding to change a time zone boundary, the highest governmental body representing the area petitions DOT to make the change. Depending on the area in question, the highest governmental body is usually elected county representatives, or the Governor or State legislature. We presume that this group represents the views of the community. We do not require that the community conduct a vote or referendum on the issue. We solicit the views of all interested parties, not just individuals who live or businesses that are located in the affected area.

15 USC 261 states that the standard for making a time zone boundary change is “regard for the convenience of commerce and the existing junction points and division points of common carriers engaged in interstate or foreign commerce.” In order to determine what decision would support “the convenience of commerce,” the Department looks at a wide variety of factors about how the potential change would affect the community and surrounding areas. These factors include, but are not limited to the following:

1. From where do businesses in the community get their supplies and to where do they ship their goods or products?

2. From where does the community receive television and radio broadcasts?

3. Where are the newspapers published that serve the community?

4. From where does the community get its bus and passenger rail services; if there is no scheduled bus or passenger rail service in the community, to where must residents go to obtain these services?

5. Where is the nearest airport; if it is a local service airport, to what major airport does it carry passengers?

6. What percentage of residents of the community work outside the community; where do these residents work?

7. What are the major elements of the community's economy; is the community's economy improving or declining; what Federal, State, or local plans, if any, are there for economic development in the community?

8. If residents leave the community for schooling, recreation, health care, or religious worship, what standard of time is observed in the places where they go for these purposes?

History of This Proceeding

On April 22, 1999, the Wayne County, Kentucky Fiscal Court, by Resolution, formally petitioned the Department of Transportation to change the County's time zone from central to eastern. The Resolution addressed each of the factors discussed above and made a prima facie case that changing the time zone would suit “the convenience of commerce.”

On June 21, 1999, the DOT published a notice of proposed rulemaking in the Federal Register (64 FR 33035) that proposed to move the county to eastern time.

A DOT representative conducted a hearing in Monticello, Kentucky, on June 24, 1999. The hearing was attended by approximately 80 people and lasted several hours. The DOT representative tried to gauge the position of the attendees by an informal show of hands at two times during the hearing (a number of people arrived late and others needed to leave early.) By show of hands, 44 were in favor and 26 opposed the first time, and 44 were in favor and 32 opposed the second time.

The NPRM also invited the public to submit written comments to the docket. There were over three hundred different submissions to the docket. The submissions included a number of petitions, detailed letters, and postcards or other short messages expressing a preference for either the Central or Eastern Time Zone. One petition favoring eastern time was signed by 1779 individuals. Another petition favoring central time was signed by 225 individuals. There were a number of other petitions with fewer signatures both favoring and opposing the proposed change. Overall, nearly 2,500 named individuals expressed an opinion either for or against the proposal in the written comments. About 1800 comments favored changing Wayne County's time zone to eastern.

In addition, twelve people called in to express their views. Most did not provide their names. Seven of the callers favored retaining central time observance and five supported the proposed change.

Originally, DOT hoped to issue a decision at the beginning of October 1999. Under that scenario, if a change were adopted, it would have been effective on October 31, 1999, which was the ending date for daylight saving time. Because this was a very controversial proceeding, on October 8, 1999, we issued a notice to alert the community that we would not meet our planned timetable, and that the earliest date that the proposed change might take effect would be October 29, 2000.

The Facts in the Case

The Resolution of the Fiscal Court provided detailed information to support its request. The Resolution stated:

I. Supplies for businesses are shipped into Wayne County mostly from the Eastern Time Zone. (Somerset, Lexington, Knoxville) United Parcel Service, FedEx and other carrier deliveries come from terminals in the Eastern Time Zone.

II. The major television stations that consider Wayne County as part of their coverage area are all located in the Eastern Time Zone. (Lexington, Knoxville) The local cable that serves Wayne County has no major local affiliates which are located in the Central Time Zone.

III. All daily newspapers that serve Wayne County are located in the Eastern Time Zone. Those being the Louisville Courier-Journal, Lexington Herald-Leader and the Commonwealth Journal which comes from Somerset, Ky.

IV. The citizens of Wayne County obtain bus transportation in Corbin, Ky., which is located in the Eastern Time Zone. The closest rail service for public transportation is also located in the Eastern Time Zone.

V. The closest commercial airport is Lexington, Ky., located in the Eastern Time Zone.

VI. Approximately 950 of the local workforce works outside Wayne County. It is estimated that 700 of those work in the Eastern Time Zone. This represents manufacturing jobs and is based on the 1996 manufacturing statistics.

VII. Approximately 90% +/-of Wayne County residents that attend educational institutions outside Wayne County attend schools that are located in the Eastern Time Zone. If you look at only the students that commute for education purposes, the figure would be higher. Wayne County needs desperately to improve our educational obtainment level of our residents. Moving to the Eastern Time Zone would align us with the resources to make this improvement more feasible.

VIII. Most interscholastic activities (90% or more) are with schools from the Eastern Time Zone. Most all district and regional competitions are held in areas that are in the Eastern Time Zone.

IX. Tourism plays an important role in our economy and the major portion of that comes from people located in the Eastern Time Zone. Lake Cumberland is a major tourism drawing card for our county. A very large portion (80%) of the tourists that come to this area come from the Eastern Time Zone.

X. Major hospitals that serve Wayne County are located in the Eastern Time Zone. It is estimated that 99% of all Wayne County citizens that are referred to obtain other medical services, that are not available locally, are referred to the Eastern Time Zone. (Somerset, Lexington, Louisville)

XI. The State Police Headquarters that serves our area is located in the Eastern Time Zone.

XII. Wayne County is the only county in the Fifth Congressional District that is in the Central Time Zone.

XIII. Looking at two long term factors that could significantly impact Wayne County in the future (the development of the Big South Fork National River and Recreation Area and the construction of I-66) would require Wayne County to be in the Eastern Time Zone to fully align with these two developments.

XIV. Most all of our industry, if not all, that is not headquartered locally has their main company headquarters in the Eastern Time Zone.

XV. Wayne County residents that go outside the county for “shopping” purposes, go to the Eastern Time Zone. (Somerset/Lexington)

XVI. The closest major gateway to our area is I-75. This attaches Wayne County, Kentucky, significantly to the Eastern Time Zone.

Virtually none of the comments opposing the change challenged the factual validity of any of the points included in the Fiscal Court Resolution. Some commenters did, however, question whether these particular factors were the appropriate ones to consider in making a final decision.

One of the main concerns in any time zone proceeding is the impact on young children and schools. At the public hearing, Mr. John Dalton, the Superintendent of Schools in Wayne County stated that if the proposal were adopted, school opening times would be delayed between 45 minutes to one hour to ensure the safety of the students. Other accommodations would be made, as appropriate, to other school activities.

Comments Opposing the Proposal

Opponents of the proposed change made strong, and often passionate, arguments in favor of retaining central time. Most of the commenters were very concerned about the safety and well-being of the children in the community. Most focused on the danger of waiting for early morning buses in the dark. Others noted logistical concerns with the availability (and cost) of childcare, and the fear that young children would be left unsupervised in the morning before school. Some were worried about the difficulty of getting children to bed before dark during the summertime. Others anticipated higher school absenteeism because the children would be tired. Several comments talked about the difficulty of coordinating parents' work schedules with the school schedule. A number of comments discussed the intangible, but very important, impacts of time observance on family life. For example, one commenter enjoyed the additional afternoon family time provided by central time observance and another commenter was concerned about the impact a change would have on Wednesday evening church services.

There were a number of comments making the argument that, “if it ain't broke, don't fix it.” Some of these commenters questioned whether the benefits from a change could possibly outweigh the effort and expense in making the adjustment.

Others were surprised, and skeptical, about proponents' claims of inconvenience and confusion from working with two time zones. Generally, they stated that they were clear about time zone differences and personally had never missed an appointment or been confused. In addition, a number of commenters denied that there would be any impact on economic growth or development from a change and, instead, focused on the economic growth in the county during the last decade.

There were a number of comments stating that the proposed change would have a negative impact on farmers and farming. These comments noted that Wayne County was, and still is to a large degree, a farming community. Changing to eastern time would result in later sunrises and sunsets compared to central time. This would adversely impact the scheduling of farm operations, such as the cutting of hay and tending of livestock. In addition, a number of commenters were concerned that farmers would be unable to obtain parts and supplies later in the day when they were working but the stores were closed. A few commenters were concerned that a change would disrupt Wednesday evening church services because, unless the services started later in the evening, farmers would be unable to attend.

A common thread in many of the comments was that the pace of life is slower, and more enjoyable, on central time. For example, one commenter stated, “I do not want to live in a fast paced, heavily populated area. I * * * like the slower, laid back, low crime, small town, peaceful, friendly, and scenic Wayne County we have now.” Another noted that central time suits the “early to bed, early to rise” character of the county. Others noted that the county had always been on central time and that, geographically, it should remain on central time.

Many of the commenters focused on the advantages of central time. One of the most commonly noted advantages was being able to minimize time off work or out of school when traveling to the Eastern Time Zone for appointments. Others who work in the Eastern Time Zone enjoy getting home an hour earlier. A number of people enjoyed watching prime time television shows and the evening news an hour earlier than those on eastern time. Some enjoyed receiving mail and other deliveries earlier than they would if on eastern time. Others explained how, in their particular circumstances, most of their business, religious, medical, and social contacts were with people and organizations located in central time. A few commenters stated that the current observance benefits businesses that have very early work hours, especially to the extent that their employees come from other counties in the Central Time Zone.

Many of those opposing the proposal were offended by the process. Uniformly, they stated that there should be a vote on the issue before any action is taken.

Comments Supporting the Proposal

The comments supporting the proposal were equally passionate and deeply felt. These commenters vigorously supported the factual assertions made in the Fiscal Court Resolution. In general, it seemed obvious to virtually all of these commenters, that based on the facts presented by the Fiscal Court, the change should be made. Nevertheless, the proponents made a number of additional arguments in support of the change.

The most often repeated argument was practicality and convenience. These commenters defined their community broadly. They viewed themselves as aligned with cities and counties in the Eastern Time Zone, primarily to the north and east. In particular, they focused on the close ties Wayne County residents have with Somerset, Lexington, and, to a lesser degree, Richmond, London, Corbin, Frankfort, Louisville, and Knoxville, all of which are on eastern time. In their view, to the extent some thing or service was not available in the county, they must travel to the Eastern Time Zone to obtain it. They reiterated the points made by the Fiscal Court that virtually all government services; courts and administrative tribunals; hospitals and specialized medical treatment; entertainment and dining options; air, rail and bus service; television and radio transmissions; major newspapers; and community colleges, universities and technical schools were located in the Eastern Time Zone.

A number of businesses and professional offices expressed frustration at losing between two and four hours a day communication with those in the Eastern Time Zone because of different starting, lunch, and quitting hours. Others found it difficult and inconvenient to schedule appointments, court appearances, and interact with State and federal officials because of the time difference. A number of commenters stated that they had lost customers and business as a result of the time difference. In consequence, a number of sizable Wayne County businesses operate on eastern time because it is more efficient and makes better operational sense.

A number of letters focused on obtaining medical care outside the county. Several of the letters were from senior citizens who found the current system to be confusing and inconvenient for making doctor appointments and scheduling medical tests, which often must be done early in the morning. A family physician stated that being in the Central Time Zone was a hardship for his staff in making patient referrals.

Several comments from lawyers and legal professionals noted that all Social Security hearings, workers' compensation hearings, bankruptcy hearings, Federal court trials, and virtually all State administrative hearings and court appellate proceedings are held in the Eastern Time Zone. Others noted that the State and Congressional offices they must deal with are all located in the Eastern Time Zone.

The owner and general manager of a local radio station noted that weather bulletin and emergency and security action information systems are located in the Eastern Time Zone and the warnings are written based on eastern time observance. The commenter was concerned that, in case of an emergency, an inexperienced operator might confuse the time zones and rely on inaccurate, and presumably life-threatening, information. Another commenter, noted that the Boy Scout camp was located in the Eastern Time Zone and discussed the adverse impact the time difference had on his scouts. A cable television technician noted that using eastern time would simplify using a VCR during recording of programs. In addition, he noted that the television guide is on eastern time.

One commenter argued, “Wayne County, Kentucky is a part of the Eastern Time Zone community in all ways except for what our clocks say. Please set our clocks to the same time as the rest of the community.” Another commenter stated, “[t]he majority of the people who have business, social, or educational contacts out of the county will benefit . . . People who confine all of these activities to the county will be impacted minimally, if at all. This change is clearly desirable as it will benefit more people and businesses than it will harm, with a great many not being affected at all.”

Another major argument was that changing the time zone would support the economic growth and development of the county. A number of commenters focused on the competitive nature of attracting new businesses to the county and argued that the confusion and inconvenience of juggling time zones is a deterrent to new entrants. Others focused on the positive impact a change would have on tourism. According to these commenters, a large majority of tourists come from the Eastern Time Zone and want their visit to be as hassle-free as possible. A number of other commenters argued that efficient business operation is hampered by the time difference and removing that impediment will allow for growth.

Another common, and strongly held, argument was that the change was vital for progress. One commenter stated, “I have children and grandchildren here in this poverty stricken area and I do believe that there is a possibility that this change might help them and their children to earn a better wage and have a better life.” Another commenter said, “give us a real chance to improve and grow our economy, give us a chance at a better future.”

A number of parents stated that the change would have a positive impact on their children and families. One stated his belief that his children would be better rested and, therefore, would be better able to perform in school, if the time change were adopted. Several commenters wanted to minimize the time children were unsupervised in the afternoon when they believe children, particularly teenagers, are most likely to get into trouble. Others focused on the difficulties of scheduling athletic and after-school activities with neighboring counties. In some cases, children must leave school early in order to arrive on time for scheduled activities in the Eastern Time Zone. As a result, according to one commenter, many parents are unable to attend their children's after school activities because they cannot leave work early in order to allow for the time change.

Many of the commenters expressed personal preferences and concerns. A number of commenters noted the burden of losing an hour when traveling to the Eastern Time Zone, particularly when beginning work or school early in the morning. Several commenters said they were prevented, or at least dissuaded, from taking early morning courses at institutions of higher learning because of the need to leave home an hour earlier in the morning. Others who work in Wayne County feel that that current time zone boundary limits the time they can shop or obtain other services in Somerset. Some commenters focused on the positive impacts a change would have on working conditions and family relationships. A few noted that currently, it is hard to get replacement parts from the Eastern Time Zone later in the day.

A number of those favoring the change were surprised by the controversy. These commenters alleged that most residents supported their position or, at least, did not care. Others commented that people would adjust and that the opposition was simply a fear of change. One commenter stated, “[m]oving Wayne County to the Eastern Time Zone will bring about advances, we understand these advances will be over time and will not be readily recognized by the general public. But move us and 5 years later we will all have benefited and looking back we will all be able to see the results.”

In response to the concern about farmers, one commenter noted that the change would benefit part-time farmers. The commenter stated that many people who work in manufacturing jobs farm part-time after their workdays are over. If companies do not adjust their work hours, the time change would provide an extra hour of daylight after work. Other commenters argued that farmers work by the sun, not the clock, and that time observance should have no impact on most of their activities.

In terms of geography, several commenters stated that Wayne County is “out of line” with neighboring counties, all of which are on eastern time. For example, one noted that Jefferson County, Kentucky, is on eastern time and about five counties west of Wayne County.

A number of commenters made observations about the decision-making process in this case. Several noted the extensive opportunity for public input both to the Fiscal Court and the Department of Transportation. Others noted that both the current and previous Fiscal Courts had voted in favor of a change, which presumably shows longstanding political support. A different commenter noted his great skepticism about holding a vote on the time change. As an elected official himself, the commenter noted that the county is known for very low voter turnout, and doubted that any vote would provide a more representative sampling of community opinion.

The Decision

We appreciate the community's overwhelming response in this proceeding. Many people invested a substantial amount of their time to write lengthy and well-reasoned letters to help us make this decision. Every comment was read, and reread, several times.

We find that it would suit the “convenience of commerce” to move Wayne County from the Central to the Eastern Time Zone. Based on the facts presented, the county is very reliant on areas in the Eastern Time Zone to provide a majority of goods and services. In addition, most business and political leaders who commented believe that this change would provide a positive economic benefit to the area. As the people closest to the situation, we defer to their opinion on this matter.

This was a difficult case to decide because of the deep split in the community. The proponents of the change made their case under the statutory criterion. Nevertheless, we were concerned about the substantial number of individuals who fervently oppose any change. We carefully considered, and reconsidered, the degree of public support necessary to make a time zone change viable. Although we considered “tabling” the issue until there was greater unanimity in the community, we ultimately decided that this would be a dereliction of our duty to make the decision based on the statutory criterion. Although we regret that some will be unhappy with this decision, we are hopeful that ultimately the change will not be as uncomfortable as some anticipate.

Other Issues

A few commenters asked us to abolish daylight saving time. That issue is outside the scope of this rulemaking. Under the Uniform Time Act, a State is free to observe, or not observe, daylight saving time. If it chooses to observe, it must begin and end its observance on the federally mandated dates. Commenters that wish to be exempted from daylight saving time should explore this option with their State representatives.

A few commenters did not like time zone boundaries that divided States, or at least did not go in a more-or-less straight line. Time zone boundaries were originally set up in the late 1800s. Although they were based on geographic considerations (i.e., the sun should be more or less overhead at noon), the exact boundary was set largely based on the convenience of commerce and the needs of the railroads. In addition, geographic boundaries, such as mountains and rivers, also play a role. Therefore, it is reasonable to expect variation in the time zone boundary alignment.

Impact on Observance of Daylight Saving Time

This time zone change does not affect the observance of daylight saving time. Under the Uniform Time Act of 1966, as amended, the standard time of each time zone in the United States is advanced one hour from 2:00 a.m. on the first Sunday in April until 2:00 a.m. on the last Sunday in October, except in any State that has, by law, exempted itself from this observance.

Regulatory Analysis and Notices

This rule is not a “significant regulatory action” under section 3(f) of Executive Order 12866 and does not require an assessment of potential costs and benefits under section 6(a)(2) of that Order. It has not been reviewed by the Office of Management and Budget under that Order. It is not “significant” under the regulatory policies and procedures of the Department of Transportation (DOT) (44 FR 11040; February 26, 1979.) We expect the economic impact of this rule to be so minimal that a full regulatory analysis is unnecessary. The rule primarily affects the convenience of individuals in scheduling activities. By itself, it imposes no direct costs. Its impact is localized in nature.

Small Entities

Under the Regulatory Flexibility Act (5 U.S.C. 601-612), we considered whether this rule would have a significant economic impact on a substantial number of small entities. The term “small entities” comprises small business, not-for-profit organizations that are independently owned and operated and are not dominant in their fields, and governmental jurisdictions with populations of less than 50,000. This rule primarily affects individuals and their scheduling of activities. Although it will affect some small businesses, not-for-profits, and perhaps, several small governmental jurisdictions, it will not be a substantial number. In addition, the change will not have a significant economic impact within the meaning of the Act. I, therefore, certify under 5 U.S.C. 605(b) that this rule will not have a significant economic impact on a substantial number of small entities.

Collection of Information

This rule calls for no new collection of information under the Paperwork Reduction Act of 1995 (44 U.S.C. 3501-3520).

Federalism

We have analyzed this rule under Executive Order 12612 and have determined that this rule does not have sufficient implications for federalism to warrant consultation with State and local officials or the preparation of a federalism summary impact statement. The final rule has no substantial effects on the States, or on the current Federal-State relationship, or on the current distribution of power and responsibilities among the various local officials.

Unfunded Mandates

The Unfunded Mandates Reform Act of 1995 (2 U.S.C. 1531-1538) and Executive Order 12875, enhancing the Intergovernmental Partnership, (58 FR 58093; October 28, 1993) govern the issuance of Federal regulations that require unfunded mandates. An unfunded mandate is a regulation that requires a State, local, or tribal government or the private sector to incur direct costs without the Federal Government's having first provided the funds to pay those costs. This rule does not impose an unfunded mandate.

Taking of Private Property

This rule does not effect a taking of private property or otherwise have taking implications under Executive Order 12630, Governmental Actions and Interference with Constitutionally Protect Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

This rule is not a major Federal action significantly affecting the quality of the human environment under the National Environmental Policy Act and, therefore, an environmental impact statement is not required.

List of Subject in 49 CFR Part 71

Time.

PART 71—[AMENDED]

For the reasons discussed above, the Office of the Secretary amends Title 49 Part 71 as follows:

1. The authority citation for Part 71 continues to read:

Authority: Secs. 1-4, 40 Stat. 450, as amended; sec 1, 41 Stat. 1446, as amended; secs. 2-7, 80 Stat. 107, as amended; 100 Stat. 764; Act of Mar. 19, 1918, as amended by the Uniform Time Act of 1966 and Pub. L. 97-449, 15 U.S.C. 260-267; Pub. L. 99-359; 49 CFR 159(a), unless otherwise noted.

2. Paragraph (c) of § 71.5, Boundary line between eastern and central zones, is revised to read as follows:

§ 71.5 Boundary line between eastern and central zones

(a) * * *

(b) * * *

(c) Kentucky. From the junction of the east line of Spencer County, Ind., with the Indiana-Kentucky boundary easterly along that boundary to the west line of Meade County, Ky.; thence southeasterly and southwesterly along the west lines of Meade and Hardin Counties to the southwest corner of Hardin County; thence along the south lines of Hardin and Larue Counties to the northwest corner of Taylor County; thence southeasterly along the west (southwest) lines of Taylor County and northeasterly along the east (southeast) line of Taylor County to the west line of Casey County; and thence southerly along the west and south lines of Casey and Pulaski Counties to the intersection with the western boundary of Wayne County; and then south along the western boundary of Wayne County to the Kentucky-Tennessee boundary.

* * * * *

Issued in Washington, D.C. on August 10., 2000.
Rodney E. Slater,
Secretary.

[FR Doc. 00-20854 Filed 8-14-00; 10:29 am]

BILLING CODE 4910-62-U